DEPARTMENT OF TRANSPORTATION

Federal Aviation Administration

14 CFR Part 91

Removal of an Obsolete Reference in Special Federal Aviation Regulation 50-2—Special Flight Rules in the Vicinity of Grand Canyon National Park, AZ

AGENCY: Federal Aviation Administration, DOT.

ACTION: Final rule; technical amendment.

SUMMARY: This amendment removes an obsolete reference in Special Federal Aviation Regulation 50-2, Special Flight Rules in the Vicinity of Grand Canyon National Park, AZ. In section 9 of that SFAR, there is a “Note” that refers to an informational map of the Special Flight Rules Area (SFRA). This map is no longer available; however, there is an illustrational map of the SFRA in Part 93, Subpart U. Therefore, this technical amendment deletes the reference in SFAR 50-2, which is no longer needed and is confusing to the public.

DATES: Effective Dates: Effective on March 6, 2007.

FOR FURTHER INFORMATION CONTACT: Linda Williams, Office of Rulemaking (ARM-109), Federal Aviation Administration, 800 Independence Avenue, SW., Washington, DC 20591. Telephone: (202-267-9685); e-mail: Linda.L.Williams@faa.gov.

SUPPLEMENTARY INFORMATION: In January 2001(66 FR 1002) the FAA found it necessary to delay the implementation of the routes in the east end of the Canyon. Because this was initially difficult to explain in the regulations, the FAA made available an informational map to assist the public in understanding the boundaries of the Grand Canyon's Special Flight Rules Area, or SFRA. The note says that the map is available on the Office of Rulemaking's website or by contacting that office.

Because an illustrational map of the SFRA is contained in Part 93, Subpart U, the FAA removes the reference to the map in SFAR 50-2. The illustrational map remains in Part 93 to give interested parties a general picture of the Grand Canyon SFRA.

List of Subjects in 14 CFR Part 91

Aircraft, Airmen, Airports, Aviation safety, Freight, Incorporation by reference, Reporting and recordkeeping requirements.

The Amendment

Accordingly, Title 14 of the Code of Federal Regulations (CFR) part 91 is amended as follows:

PART 91—GENERAL OPERATING AND FLIGHT RULES

1. The authority citation for part 91 continues to read as follows:

Authority: 49 U.S.C. 106(g), 1155, 40103, 40113, 40120, 44101, 44111, 44701, 44704, 44709, 44711, 44712, 44715, 44716, 44717, 44722, 46306, 46315, 46316, 46504, 46506-46507, 47122, 47508, 47528-47531, articles 12 and 29 of the Convention on International Civil Aviation (61 stat. 1180).

2. Amend Special Federal Aviation Regulation 50-2 by removing the “Note” at the end of section 9.

Special Federal Aviation Regulation 50-2, Special Flight Rules in the Vicinity of Grand Canyon National Park, AZ

* * * * *

Section 9 Termination date.

* * * * *

Note: [Removed]

Issued on February 26, 2007.
Pamela Hamilton-Powell,
Director, Office of Rulemaking, Federal Aviation Administration.

[FR Doc. E7-3810 Filed 3-5-07; 8:45 am]

BILLING CODE 4910-13-P